DEPARTMENT OF VETERANS AFFAIRS

Advisory Committee on the Readjustment of Veterans, Notice of Meeting Cancellation

The Department of Veterans Affairs (VA) gives notice under the Federal Advisory Committee Act, 5 U.S.C. Ch. 10, that the Advisory Committee on the Readjustment of Veterans, previously scheduled to be held on October 21 and October 22, 2025, has been cancelled due to a lapse in appropriations.

For more information, please contact Mr. Joshua Mathis, Designated Federal Officer, at 313-310-3891 or via email at Joshua.Mathis@va.gov.

Dated: October 15, 2025.
Taylor N. Mattson,
Alternate Federal Register Liaison Officer, Department of Veterans Affairs.

[FR Doc. 2025-19590 Filed 10-17-25; 8:45 am]

BILLING CODE 8320-01-P